DEPARTMENT OF TRANSPORTATION

Federal Aviation Administration

14 CFR Part 39

[Docket No. 2002-CE-32-AD]

RIN 2120-AA64

Airworthiness Directives; Raytheon Aircraft Company Model 1900D Airplanes

AGENCY: Federal Aviation Administration, DOT.

ACTION: Notice of proposed rulemaking (NPRM).

SUMMARY: This document proposes to adopt a new airworthiness directive (AD) that would apply to certain Raytheon Aircraft Company (Raytheon) Model 1900D airplanes. This proposed AD would require you to inspect the alternating current (AC) inverter and modify the AC inverter and inverter sync wire shield. This proposed AD is the result of reports that electrical noise causes the inverter to shut down in flight with loss of AC-powered flight instruments. The actions specified by this proposed AD are intended to prevent electrical noise causing the inverter to shut down, which could result in failure of key aircraft electrical systems. Such failure could lead to loss of flight instruments during flight.

DATES: The Federal Aviation Administration (FAA) must receive any comments on this proposed rule on or before January 2, 2003.

ADDRESSES: Submit comments to FAA, Central Region, Office of the Regional Counsel, Attention: Rules Docket No. 2002-CE-32-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2002-CE-32-AD” in the subject line. If you send comments electronically as attached electronic files, the files must be formatted in Microsoft Word 97 for Windows or ASCII text.

You may get service information that applies to this proposed AD from Raytheon Aircraft Company, 9709 E. Central, Wichita, Kansas 67201-0085; telephone: (800) 429-5372 or (316) 676-3140. You may also view this information at the Rules Docket at the address above.

FOR FURTHER INFORMATION CONTACT: Todd Dixon, Aerospace Engineer, FAA, Wichita Aircraft Certification Office (ACO), 1801 Airport Road, Room 100, Wichita, Kansas 67209; telephone: (316) 946-4152; facsimile: (316) 946-4407.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention To?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I Be Sure FAA Receives My Comment?

If you want FAA to acknowledge the receipt of your mailed comments, you must include a self-addressed, stamped postcard. On the postcard, write “Comments to Docket No. 2002-CE-32-AD.” We will date stamp and mail the postcard back to you.

Discussion

What Events Have Caused This Proposed AD?

The FAA has received nine reports of electrical noise causing the alternating current (AC) inverter to shut down on certain airplanes. These airplanes are equipped with KGS Electronics AC Inverter part number (P/N) SPC-10(PW), Mod 2, serial numbers 306 to 803. The shut down of the inverter resulted in the loss of the electronic flight information system (EFIS), Radio Magnetic Indicator (RMI), and related AC-powered systems. Some airplanes experienced the loss of engine torque indication.

What Are the Consequences if the Condition Is Not Corrected?

Such failure of the inverter could lead to loss of flight instruments during a critical phase of flight.

Is There Service Information That Applies to This Subject?

Raytheon has issued Mandatory Service Bulletin SB 24-3215, Rev. 1, issued February 1999, revised June 2001.

What Are the Provisions of This Service Information?

The service bulletin includes procedures for:

—AC inverter inspection;

—AC inverter modification; and

—AC inverter sync wire shield modification.

The FAA's Determination and an Explanation of the Provisions of This Proposed AD

What Has FAA Decided?

After examining the circumstances and reviewing all available information related to the incidents described above, we have determined that:

—The unsafe condition referenced in this document exists or could develop on other Raytheon Model 1900D airplanes of the same type design;

—The actions specified in the previously-referenced service information should be accomplished on the affected airplanes; and

—AD action should be taken in order to correct this unsafe condition.

What Would This Proposed AD Require?

This proposed AD would require you to incorporate the actions in the previously-referenced service bulletin.

Cost Impact

How Many Airplanes Would This Proposed AD Impact?

We estimate that this proposed AD affects 232 airplanes in the U.S. registry.

What Would Be the Cost Impact of This Proposed AD on Owners/Operators of the Affected Airplanes?

We estimate the following costs to accomplish the proposed AC inverter inspection:

Labor cost | Parts cost | Total cost per airplane | Total cost on U.S. operators
2 workhours × $60 = $120 for each inverter | No cost for parts | $240 | 232 × $240 = $55,680.

We estimate the following costs to accomplish any necessary AC inverter modification that would be required based on the results of the proposed inspection. We have no way of determining the number of airplanes that may need such modification:

Labor cost | Parts cost | Total cost per airplane
2 workhours × $60 = $120 for each inverter ($240 per aircraft) | $310 | $550 for each airplane.

We estimate the following costs to accomplish any necessary AC inverter sync wire shield modification that would be required based on the results of the proposed inspection. We have no way of determining the number of airplanes that may need such modification:

Labor cost | Parts cost | Total cost per airplane
8 workhours × $60 = $480 | $6 | $486

Compliance Time of This Proposed AD

What Would Be the Compliance Time of This Proposed AD?

The compliance time of this proposed AD is within 6 months after the effective date of the AD.

Why Is the Proposed Compliance Time Presented in Calendar Time Instead of Hours Time-in-Service (TIS)?

Failure of the aircraft AC inverters is only unsafe during airplane operation. However, this unsafe condition is not a result of the number of times the airplane is operated. The chance of this situation occurring is the same for an airplane with 50 hours time-in-service (TIS) as it would be for an airplane with 1,000 hours TIS.

For this reason, the FAA has determined that a compliance based on calendar time should be utilized in this proposed AD in order to assure that the unsafe condition is addressed on all airplanes in a reasonable time period.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Raytheon Aircraft Company: Docket No. 2002-CE-32-AD.

(a) What airplanes are affected by this AD? This AD affects the following airplane models and serial numbers that are certificated in any category:

(1) Group 1 Airplanes: Model 1900D, serial numbers UE-1 through UE-265.

(2) Group 2 Airplanes: Model 1900D, serial numbers UE-266 through UE-388.

(3) Group 3 Airplanes: Model 1900D, serial numbers UE-389 through UE-410.

(b) Who must comply with this AD? Anyone who wishes to operate any of the airplanes identified in paragraph (a) of this AD must comply with this AD.

(c) What problem does this AD address? The actions specified by this AD are intended to prevent electrical noise causing the alternating current (AC) inverter to shut down, which could result in failure of key aircraft electrical systems. Such failure could lead to loss of flight instruments during a critical phase of flight.

Note 1: Refer to paragraph (a) to determine if your airplane is assigned to Group 1, Group 2, or Group 3. If your airplane is assigned to Group 1, Group 2, or Group 3, you only have to accomplish the requirements of either paragraph (d), (e), or (f), respectively.

(d) What actions must I accomplish to address this problem if I have a Group 1 airplane? To address this problem, you must accomplish the following:

Actions | Compliance | Procedures
(1) Inspect the AC inverter to determine if the KGS Electronics AC Inverter part number (P/N) SPC-10(PW), with a serial number in the range of 306 through 803, is installed and is identified as Mod 2DD. (i) This may be accomplished by checking the logbook and positively showing that Mod 2DD inverter is installed. A person holding a pilot's certificate may accomplish this check. (ii) If, by checking the airplane logbook or by visual inspection, it can be positively shown that Mod 2DD inverter is installed, then the requirements of paragraph (d)(2) of this AD do not apply. You must make an entry into the aircraft records that shows compliance with this portion of the AD, in accordance with section 43.9 of the Federal Aviation Regulations (14 CFR 43.9). | Within 6 months after the effective date of this AD | In accordance with the ACCOMPLISHMENT INSTRUCTIONS section of Raytheon Aircraft Service Bulletin SB 24-3215, Rev. 1, issued February 1999, revised June 2001.
(2) If during the inspection required in paragraph (d)(1), it is found that the Mod 2DD inverter is not installed, accomplish the AC inverter modification | Before further flight after the paragraph (d)(1) inspection of this AD | In accordance with the ACCOMPLISHMENT INSTRUCTIONS section of Raytheon Aircraft Service Bulletin SB 24-3215, Rev. 1, issued February 1999, revised June 2001, and the Model 1900D Airliner Maintenance Manual.
(3) Inspect the AC inverter to determine if STC #SA00245WI-D is installed. (i) This may be accomplished by checking the logbook and positively showing that STC #SA00245WI-D has never been installed. A person holding a pilot's certificate may accomplish this check. (ii) If, by checking the logbook or visual inspection, it can be positively shown that STC #SA00245WI-D has never been installed, then the requirements of paragraph (d)(4) of this AD do not apply. You must make an entry into the aircraft records that shows compliance with this portion of the AD, in accordance with section 43.9 of the Federal Aviation Regulations (14 CFR 43.9). | Within 6 months after the effective date of this AD | In accordance with the ACCOMPLISHMENT INSTRUCTIONS section of Raytheon Aircraft Service Bulletin SB 24-3215, Rev. 1, issued February 1999, revised June 2001.
(4) If during the inspection required in paragraph (d)(3), STC #SA00245WI-D is found installed, accomplish the AC inverter sync wire shield modification. | Before further flight after the paragraph inspection of this AD | In accordance with the ACCOMPLISHMENT INSTRUCTIONS section of Raytheon Aircraft Service Bulletin SB 24-3215, Rev. 1, issued February 1999, revised June 2001, and the Model 1900D Airliner Maintenance Manual.
(5) Do not install, on any affected airplane, any KGS Electronics AC inverter S/N between 306 through 803 not identified as Mod 2DD | As of the effective date of this AD | Not applicable.
(6) Do not install STC #SA00245WI-D on any airplane unless the AC inverter modification required in paragraph (d)(4) of this AD is accomplished. | As of the effective date of this AD | In accordance with the ACCOMPLISHMENT INSTRUCTIONS section of Raytheon Aircraft Service Bulletin SB 24-3215, Rev. 1, issued February 1999, revised June 2001, and the Model 1900D Airliner Maintenance Manual.

(e) What actions must I accomplish to address this problem if I have a Group 2 airplane? To address this problem, you must accomplish the following:

Actions | Compliance | Procedures
(1) Inspect the AC inverter to determine if the KGS Electronics AC Inverter part number (P/N) SPC-10(PW), with a serial number in the range of 306 through 803, is installed and is identified as Mod 2DD. (i) This may be accomplished by checking the logbook and positively showing that Mod 2DD inverter is installed. A person holding a pilot's certificate may accomplish this check. (ii) If, by checking the airplane logbook or visual inspection, it can be positively shown that Mod 2DD inverter is installed, then the requirements of paragraphs (e)(2) of this AD do not apply. You must make an entry into the aircraft records that shows compliance with this portion of the AD, in accordance with section 43.9 of the Federal Aviation Regulations (14 CFR 43.9). | Within 6 months after the effective date of this AD. | In accordance with the ACCOMPLISHMENT INSTRUCTIONS section of Raytheon Aircraft Service Bulletin SB 24-3215, Rev.1, issued February 1999, revised June 2001.
(2) If during the inspection required in paragraph (e)(1), Mod 2DD is not installed, accomplish the AC inverter modification. | Before further flight after the paragraph (e)(1) inspection of this AD. | In accordance with the ACCOMPLISHMENT INSTRUCTIONS section of Raytheon Aircraft Service Bulletin SB 24-3215, Rev.1, issued February 1999, revised June 2001, and the Model 1900D Airliner Maintenance Manual.
(3) Accomplish the AC inverter sync wire shield modification. | Within 6 months after the effective date of this AD. | In accordance with the ACCOMPLISHMENT INSTRUCTIONS section of Raytheon Aircraft Service Bulletin SB 24-3215, Rev.1, issued February 1999, revised June 2001, and the Model 1900D Airliner Maintenance Manual.
(4) Do not install, on any affected airplane, any KGS Electronics AC inverter S/N between 306 through 803 not identified as Mod 2DD. | As of the effective date of this AD. | Not applicable.

(f) What actions must I accomplish to address this problem if I have a Group 3 airplane? To address this problem, you must accomplish the following:

Actions | Compliance | Procedures
(1) Inspect the AC inverter to determine if the KGS Electronics AC Inverter part number (P/N) SPC-10(PW), with a serial number in the range of 306 through 803, is installed and is identified as Mod 2DD. (i) This may be accomplished by checking the logbook and positively showing that Mod 2DD is installed on the inverter. A person holding a pilot's certificate may accomplish this check. (ii) If, by checking the airplane logbook or visual inspection, it can be positively shown that the Mod 2DD inverter is installed, then the requirements of paragraph (f)(2) of this AD do not apply. You must make an entry into the aircraft records that shows compliance with this portion of the AD, in accordance with section 43.9 of the Federal Aviation Regulations (14 CFR 43.9) | Within 6 months after the effective date of this AD. | In accordance with the ACCOMPLISHMENT INSTRUCTIONS section of Raytheon Aircraft Service Bulletin SB 24-3215, Rev. 1, issued February 1999, revised June 2001.
(2) If during the inspection required in paragraph (f)(1), it is found that the Mod 2DD inverter is not installed, accomplish the AC inverter modification. | Before further flight after the paragraph (f)(1) inspection of this AD. | In accordance with the ACCOMPLISHMENT INSTRUCTIONS section of Raytheon Aircraft Service Bulletin SB 24-3215, Rev. 1, issued February 1999, revised June 2001, and the Model 1900D Airliner Maintenance Manual.
(3) Do not install, on any affected airplane, any KGS Electronics AC inverter with serial number in the range of 306 through 803 not identified as Mod 2DD. | As of the effective date of this AD. | Not applicable.

Note 2: An owner/operator of an airplane assigned to a Group may disregard the above Group paragraphs that do not apply to his/her airplane.

(g) Can I comply with this AD in any other way? You may use an alternative method of compliance or adjust the compliance time if:

(1) Your alternative method of compliance provides an equivalent level of safety; and

(2) The Manager, Wichita Aircraft Certification Office, approves your alternative. Submit your request through an FAA Principal Maintenance Inspector, who may add comments and then send it to the Manager, Wichita Aircraft Certification Office.

Note 3: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (g) of this AD. The request should include an assessment of the effect of the modification, alteration, or repair on the unsafe condition addressed by this AD; and, if you have not eliminated the unsafe condition, specific actions you propose to address it.

(h) Where can I get information about any already-approved alternative methods of compliance? Contact Todd Dixon, Aerospace Engineer, FAA, Wichita Aircraft Certification Office (ACO), 1801 Airport Road, Room 100, Wichita, Kansas 67209; telephone: (316) 946-4152; facsimile: (316) 946-4407.

(i) What if I need to fly the airplane to another location to comply with this AD? The FAA can issue a special flight permit under sections 21.197 and 21.199 of the Federal Aviation Regulations (14 CFR 21.197 and 21.199) to operate your airplane to a location where you can accomplish the requirements of this AD.

(j) How do I get copies of the documents referenced in this AD? You may get copies of the documents referenced in this AD from Raytheon Aircraft Company, 9709 E. Central, Wichita, Kansas 67201-0085; telephone: (800) 429-5372 or (316) 676-3140. You may view these documents at FAA, Central Region, Office of the Regional Counsel, 901 Locust, Room 506, Kansas City, Missouri 64106.

Issued in Kansas City, Missouri, on October 18, 2002.
Michael Gallagher,
Manager, Small Airplane Directorate, Aircraft Certification Service.

[FR Doc. 02-27196 Filed 10-24-02; 8:45 am]

BILLING CODE 4910-13-P